DEPARTMENT OF ENERGY
Federal Energy Regulatory Commission
[Docket No. PF04-1-000]
Golden Pass LNG LP and Golden Pass Pipeline LP; Notice of Meeting Attendance
January 23, 2004.
The staff of the Federal Energy Regulatory Commission (FERC) will attend Golden Pass LNG LP and Golden Pass Pipeline LP's Open House meetings for the Golden Pass LNG and Pipeline Project. The meetings will be held from 5 to 7 p.m. at the following locations and on the identified dates:
January 27, 2004
Sabine Pass School, 5641 S. Gulfway Drive, Sabine Pass, Texas.
January 28, 2004
Carl A. Parker Multi-Purpose Building, Lamar University State College, 1800 Lake Shore Drive, Port Arthur, Texas.
February 3, 2004
VFW Hall, Starks, Louisiana.

We will be conducting a site visit of the project on Wednesday, January 28, 2004. We will meet at 8 a.m. at Skeeter's Restaurant, 5553 Dowling Road, Sabine Pass, Texas. We will view various portions of the project by traveling northward from the meeting point through Jefferson, Orange, and Newton Counties, Texas, and Calcasieu Parish, Louisiana. Interested persons must provide their own transportation.
For additional information about these meetings, please contact Karen Bailey, ExxonMobil, 281-654-7821.
Any interested persons may attend.

Magalie R. Salas,
Secretary.

[FR Doc. E4-162 Filed 1-29-04; 8:45 am]
BILLING CODE 6717-01-P